FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

B.Y. International Inc. (NVO & OFF), 11841 Trapani Drive, Rancho Cucamonga, CA 91701, Officer: Quan Li Smith, President/Treasurer/Secretary, Application Type: New NVO & OFF License.

Capito Enterprises, Inc. (NVO & OFF), 190 Ellis Road, Lake In The Hills, IL 60156, Officers: Rizalina D. Capito, President/Treasurer (Qualifying Individual), Rosette Capito, Vice President, Application Type: New NVO & OFF License.

CDS Global Logistics, Inc. (NVO & OFF), 1001 Virginia Avenue, Suite 315, Atlanta, GA 30354, Officers: Henry O. Wiseman, President (Qualifying Individual), Anna L. Henggeler, Corporate Secretary, Application Type: Trade Name Change.

Eagle Trans Shipping & Logistics LLC (NVO & OFF), Hoboken Business Center, 50 Harrison Street, Suite 204B, Hoboken, NJ 07030, Officers: Michelle L. Hasenauer, Manager (Qualifying Individual), Harbans S. Shrinkant, Manager, Application Type: New NVO & OFF License.

General Logistics, Inc. (NVO), 1400 NW 159 Street, Suite 105, Miami Gardens, FL 33169, Officers: Leszek Przybylski, President (Qualifying Individual), Dariusz Wietocha, Secretary, Application Type: New NVO License.

Imexzon Logistics Inc. dba, Unix Global (NVO & OFF), 1240 Blalock Road, #253, Houston, TX 77055, Officers: Seung (aka Kevin) K. Yang, Secretary (Qualifying Individual), Yoon S. Kim, President/CEO, Application Type: New NVO & OFF License.

InterChez Global Services, Inc. (NVO & OFF), 600 Alpha Parkway, Stow, OH 44224, Officers: Rocio Kemp, Vice President Marketing (Qualifying Individual), Sharlene Chesnes, EVP/Board Chair, Application Type: QI Change.

Logic Global LLC (NVO), 1900 Hemstead Turnpike, Suite 405, East Meadow, NY 11554, Officer: Kathleen Fox, Member/Manager (Qualifying Individual), Application Type: New NVO License.

LTA Import & Export, Inc. (NVO & OFF), 14331 SW 120th Street, #203, Miami, FL 33186, Officers: Eric E. Diaz, Director of Sales & Marketing (Qualifying Individual), Annette Trimino, President, Application Type: New NVO & OFF License.

Marine Cargo Line, L.C. dba, Active Freight & Logistics (NVO), One Blue Hill Plaza, Pearl River, NY 10965, Officer: Hector Rodriguez, Senior Vice President (Qualifying Individual), Alan Elkin, CEO/Manager, Application Type: QI Change.

Miami Freight & Logistics Services, Inc., dba Miami Global Lines (NVO & OFF), 3630 NW 76th Street, Miami, FL 33143, Officers: Syed H. Hussaini, Director/Secretary/Vice President (Qualifying Individual), Mohamed Abouelmatti, Director/President, Application Type: New NVO & OFF License.

Morgan Systems International, Inc., dba Global Marine Line (NVO & OFF), 16140 Waverly, Houston, TX 77032, Officer: James M. Terry, President (Qualifying Individual), Application Type: Trade Name Change & Add NVO Service.

Pavao Sosic dba C.O. Logistic (OFF), 3711 Country Club Drive, #6, Long Beach, CA 90807, Officer: Pavao Sosic, Sole Proprietor (Qualifying Individual), Application Type: Add NVO Service.

Sanritsu Logistics America Inc. (NVO & OFF), 18239 S. Figueroa Street. Gardena, CA 90248, Officers: Yoichi J. Kamachi, Assistant Vice President (Qualifying Individual), Yasuhide Miura, President/Director, Application Type: New NVO & OFF License.

Sarosh International Shipping Inc. (NVO & OFF), 11222 S. Cienega Blvd., Suite 149, Inglewood, CA 90304, Officers: Donna Caberto, President/CEO (Qualifying Individual), Vishnukanth Puthalapattu, Director/VP/Treasurer, Application Type: New NVO & OFF License.

Status Logistics Corp. (NVO & OFF), 700 Rockaway Turnpike, #488, Lawrence, NY 11559, Officer: Anthony R. Evangelista, President/Sec./Treas. (Qualifying Individual) Application Type: New NVO & OFF License.

Technicolor Global Logistics, LLC (NVO & Off), 3233 E. Mission Oaks Blvd., Camarillo, CA 93012 Officer: Elaine Singleton, General Manager (Qualifying Individual) Application Type: New NVO & OFF License.

Dated: January 14, 2011.
Karen V. Gregory,
Secretary.

[FR Doc. 2011-1171 Filed 1-19-11; 8:45 am]

BILLING CODE 6730-01-P